NATIONAL AERONAUTICS AND SPACE ADMINISTRATION

NASA's Procurement Policies, Practices, and Iniatives; Meeting

AGENCY: National Aeronautics and Space Administration.

ACTION: Notice of Meeting.

SUMMARY: NASA will conduct an open forum meeting to solicit questions, views and opinions of interested persons or firms concerning NASA's procurement policies, practices, and initiatives. The purpose of the meeting is to hold an open discussion between NASA's Associate Administrator for Procurement, industry, and the public. Note: This is not a meeting about doing business with NASA for new firms, nor does it focus particularly on small businesses or specific contracting opportunities.

DATES: Wednesday, March 8, 2000, from 1:00 to 2:45 p.m.

ADDRESSES: The meeting will be held at the NASA Johnson Space Center, Building 30A Auditorium/Room 1093, 2101 NASA Road 1, Houston, TX 77058. A map of the area is available at http://inspection.jsc.nasa.gov/map.html.

FOR FURTHER INFORMATION CONTACT: NASA Johnson Space Center Industry Assistance Office, Code BD35, 2101 NASA Road 1, Houston,TX 77058, (281) 483-4511.

SUPPLEMENTARY INFORMATION:

Format

There will be a presentation by the Associate Administrator for Procurement, followed by a question and answer period. Procurement issues will be discussed, including NASA's newest initiatives used in the award and administration of contracts. Questions for the open forum should be presented at the meeting and should not be submitted in advance. Position papers are not being solicited.

Admittance

Doors to the auditorium will open at 12:30 p.m. All attendees must be U.S. citizens or have resident alien status. Attendees who do not currently hold a Johnson Space Center badge will be required to clear through the Center's Security Office in Building 110 for badging and car passes. Sufficient time should be allowed to accommodate this process. No reservations will be accepted. Seating capacity is limited to 135 persons; therefore, a maximum of two representatives per firm is requested. Admittance will be on a first-come, first-served basis.

Initiatives

In addition to the general discussion mentioned above, NASA invites comments or questions relative to its ongoing procurement initiatives, some of which include, but are not limited to, the following:

Risk-Based Acquisition Management

This initiative seeks to integrate the principles of risk management throughout the acquisition process by purposefully considering the various aspects of risk when developing the acquisition strategy, selecting sources, choosing contract type, structuring fee incentives, and conducting contractor surveillance.

Consolidated Contracting Initiative (CCI)

The CCI initiative emphasizes developing, using, and sharing contracts to meet Agency objectives.

Performance Based Contracting

This initiative is focused on structuring an acquisition around the purpose of the work to be performed rather than using broad, imprecise statements or prescribing how the work is to be performed.

Profit/Fee Initiative

This initiative will assess the effectiveness of the Agency's profit/fee practices as a means for motivating and rewarding contractor performance. In addition, it will investigate other, non-traditional ways to motivate contractor performance.

Tom Luedtke,
Associate Administrator for Procurement.

[FR Doc. 00-2012 Filed 1-28-00; 8:45 am]

BILLING CODE 7510-01-P